DEPARTMENT OF ENERGY

Federal Energy Regulatory Commission

[Project Nos. 12757-008, 12758-008]

BOST4 Hydroelectric LLC, BOST5 Hydroelectric LLC; Notice of Availability of Environmental Assessment

In accordance with the National Environmental Policy Act of 1969 and the Federal Energy Regulatory Commission's (Commission or FERC) regulations, 18 CFR part 380, Commission staff reviewed BOST4 Hydroelectric LLC and BOST 5 Hydroelectric LLC's (jointly as the licensees) applications for amendments to the unconstructed Red River Lock and Dam No. 4 project (No. 12757) and Red River Lock and Dam No. 5 project (No. 12758) and have prepared a single Environmental Assessment (EA) for both projects.¹ The licensees are proposing to replace the licensed single bulb turbine with five smaller bulb turbines at each project. The total generating capacity of 28.1 megawatts (MW) and water use would not change from the current licenses. The projects are located on the Red River in Red River and Bossier parishes, Louisiana. The projects occupy federal lands managed by the U.S. Army Corps of Engineers (Corps).

¹ The unique identification number for documents relating to this environmental review is EAXX-019-20-000-1744018995.

The EA contains Commission staff's analysis of the potential environmental effects of using an array of five smaller turbines to replace the single licensed turbine, at each project and concludes that the proposed amendments, with appropriate environmental protective measures, would not constitute a major federal action that would significantly affect the quality of the human environment.

The EA may be viewed on the Commission's website at http://www.ferc.gov using the “elibrary” link. Enter the docket number (P-12757 or P-12758) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

All comments must be filed by August 7, 2025.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-12757-008 or P-12758-008.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

For further information, contact Rebecca Martin at 202-502-6012 or Rebecca.Martin@ferc.gov.

Dated: July 8, 2025.
Debbie-Anne A. Reese,
Secretary.

[FR Doc. 2025-13028 Filed 7-10-25; 8:45 am]

BILLING CODE 6717-01-P